Title 3—

The President

Presidential Determination No. 2009-6 of October 20, 2008

Certifications Pursuant to the United States-India Nuclear Cooperation Approval and Nonproliferation Enhancement Act (Public Law 110-369)

Memorandum for the Secretary of State

Pursuant to section 102(c) and section 204(a) of the United States-India Nuclear Cooperation Approval and Nonproliferation Enhancement Act, I hereby certify that:

1.

Entry into force and implementation of the United States-India Agreement for Cooperation on Peaceful Uses of Nuclear Energy pursuant to its terms is consistent with the obligation of the United States under the Treaty on the Non-Proliferation of Nuclear Weapons not in any way to assist, encourage, or induce India to manufacture or otherwise acquire nuclear weapons or other nuclear explosive devices; and

2.

It is the policy of the United States to work with members of the Nuclear Suppliers Group, individually and collectively, to agree to further restrict the transfers of equipment and technology related to the enrichment of uranium and reprocessing of spent nuclear fuel.

You are authorized and directed to publish this determination in the Federal Register.

THE WHITE HOUSE,

Washington, October 20, 2008

[FR Doc. E8-25826

Filed 10-27-08; 8:45 am]

Billing code 4710-10-P